DEPARTMENT OF EDUCATION

Applications for New Awards; Race to the Top—District

AGENCY: Office of the Deputy Secretary, Department of Education.

ACTION: Notice.

Overview Information

Race to the Top—District

Notice inviting applications for new awards for fiscal year (FY) 2012.

Catalog of Federal Domestic Assistance (CFDA) Number: 84.416.

DATES: Applications Available: August 16, 2012.

Deadline for Notice of Intent to Apply: August 30, 2012.

Note: Submission of a notice of intent to apply is optional.

Date of Application Webinar: August 16 and 21, 2012.

Deadline for Transmittal of Applications: October 30, 2012.

Full Text of Announcement

I. Funding Opportunity Description

Purpose of Program

The purpose of the Race to the Top—District competition is to build on the lessons learned from the State competitions conducted under the Race to the Top program and to support bold, locally directed improvements in learning and teaching that will directly improve student achievement and educator effectiveness.

Background

Race to the Top

The Race to the Top program, authorized under the American Recovery and Reinvestment Act (ARRA) (Pub. L. 111-5), is centered on four core educational reform areas:

(a) Adopting standards and assessments that prepare students to succeed in college and the workplace and to compete in the global economy;

(b) Building data systems that measure student growth and success and inform teachers and principals about how they can improve instruction;

(c) Recruiting, developing, rewarding, and retaining effective teachers and principals, especially where they are needed most; and

(d) Turning around the Nation's lowest-achieving schools.

In 2010, the U.S. Department of Education (Department) conducted Race to the Top State competitions, which provided incentives to States to adopt bold and comprehensive reforms in elementary and secondary education and laid the foundation for unprecedented innovation. A total of 46 States and the District of Columbia put together plans to implement college- and career-ready standards, use data systems to guide teaching and learning, evaluate and support teachers and school leaders, and turn around their lowest-performing schools. The Race to the Top State competitions provided States with incentives to implement large-scale, system-changing reforms designed to improve student achievement, narrow achievement gaps, and increase graduation and college enrollment rates.

Through the Race to the Top Assessment program, also authorized under ARRA, the Department is supporting consortia of States in the development of new and better assessments aligned with high standards.

In 2011, the ARRA was amended by section 1832(b) of the Department of Defense and Full-Year Continuing Appropriations Act, 2011 (Pub. L. 112-10), which added an additional education reform area: Strengthening the quality of early learning and development programs and increasing access to high-quality early learning programs for all children, including those with high needs. As a result, the Department had the authority to use a portion of the FY 2011 appropriation for Race to the Top on the Race to the Top Early Learning Challenge program, which is jointly administered by the Departments of Education and Health and Human Services. The Race to the Top Early Learning Challenge supports nine States' efforts to strengthen the quality of their early learning programs.

Race to the Top—District Competition

On May 22, 2012, the Secretary announced the Race to the Top—District competition, which is designed to build on the momentum of other Race to the Top competitions by encouraging bold, innovative reform at the local level. This district-level FY 2012 competition is authorized under sections 14005 and 14006 of the ARRA, as amended by section 1832(b) of the Department of Defense and Full-Year Continuing Appropriations Act, 2011 and the Department of Education Appropriations Act, 2012 (Title III of Division F of Pub. L. 112-74, the Consolidated Appropriations Act, 2012). Congress appropriated approximately $550 million for Race to the Top in FY 2012. Of these funds, the Department expects to use approximately $383 million for this competition, which will fund about 15-25 grants in the range of $5 to $40 million. The amount of an award for which an applicant is eligible to apply depends upon the number of students who would be served under the application.

The Race to the Top—District competition is aimed squarely at classrooms and the all-important relationship between educators and students. This notice invites applicants to demonstrate how they can personalize education for all students in their schools.

In that regard, the Race to the Top—District competition will encourage and reward those local educational agencies (LEAs) or consortia of LEAs that have the leadership and vision to implement the strategies, structures, and systems needed to implement personalized, student-focused approaches to learning and teaching that will produce excellence and ensure equity for all students. The priorities, definitions, requirements, and selection criteria in this notice are designed to help LEAs meet these goals.

Under Absolute Priority 1, applicants must design a personalized learning environment that will use collaborative, data-based strategies and 21st century tools such as online learning platforms, computers, mobile devices, and learning algorithms, to deliver instruction and supports tailored to the needs and goals of each student, with the aim of enabling all students to graduate college- and career-ready. Implementation of a personalized learning environment is not achieved through a single solution or product but rather requires a multi-faceted approach that addresses the individual and collective needs of students, educators, and families and that dramatically transforms the learning environment in order to improve student outcomes.

The Secretary believes that teacher and student classroom interaction, supported by strong principals and engaged families, is crucial to educating students. Teacher and student interactions are strengthened when an effective teacher has useful information about students' particular needs, support from his or her principal or leadership team, a quality curriculum aligned with college- and career-ready standards, and the other tools needed to do the job.

Too often, however, these supportive conditions have not existed in our schools or districts, and the results are painfully predictable: students fall behind or drop out, achievement gaps remain or widen, teachers get frustrated and leave the field, and stakeholders become polarized and divided under pressure to perform.

That is why—for more than three years—the Department has supported bold reforms at the State and local levels that have reduced barriers to good teaching and helped create better conditions for learning.

There is no single approach or boutique solution to implementation of personalized learning environments. An LEA or consortia of LEAs receiving an award under this competition will build on the lessons learned from and the progress of States and districts in implementing reforms in the four core educational assurance areas (as defined in this notice) through Race to the Top and other key programs. A successful applicant will provide teachers the information, tools, and supports that enable them to meet the needs of each student and substantially accelerate and deepen each student's learning. These LEAs will have the policies, systems, infrastructure, capacity, and culture to enable teachers, teacher teams, and school leaders to continuously focus on improving individual student achievement and closing achievement gaps. These LEAs will also make equity and access a priority and aim to prepare each student to master the content and skills required for college- and career-readiness, provide each student the opportunity to pursue a rigorous course of study, and accelerate and deepen students' learning through attention to their individual needs. As important, they will create opportunities for students to identify and pursue areas of personal academic interest—all while ensuring that each student masters critical areas identified in college- and career-ready standards or college- and career-ready high school graduation requirements.

Educators want a way to inspire and challenge those students who are furthest ahead, provide targeted help and assistance to those furthest behind, and engage fully and effectively with the students in the middle. To accomplish this objective, educators across the country have created personalized learning environments and used strategies that involve such elements as technology, virtual and blended learning, individual and group tasks, partnering with parents, and aligning non-school hours with the educational needs of students.

Personalized learning environments allow students to: understand their individual learning goals and needs; access deep learning experiences that include individual and group tasks; and develop such skills and traits as goal setting, teamwork, perseverance, critical thinking, communications, creativity, and problem solving across multiple academic domains. If students are to do this successfully, both students and educators need opportunities to build their individual and collective capacity to support the implementation of personalized learning environments and strategies.

The Race to the Top—District competition does not create new stand-alone programs, or support niche programs or interventions. Neither is it a vehicle for maintenance of the status quo. Rather, the Race to the Top—District competition will support LEAs that demonstrate their commitment to identifying teachers, principals, and schools who have a vision and the expertise to personalize education and extend their reach to all of their students. LEAs successfully implementing an approach to learning and teaching that includes personalized learning environments will lay a foundation for raising student achievement, decreasing the achievement gap across student groups, and increasing the rates at which students graduate from high school prepared for college and careers.

Through Race to the Top—District, the Department plans to support high-quality proposals from applicants across a varied set of LEAs to create diverse models of personalized learning environments for use by LEAs across the Nation. For this reason, in addition to an absolute priority on personalized learning environments, the Department is establishing four additional absolute priorities in this notice; each applicant will meet one of Absolute Priorities 2 through 5. These absolute priorities will support efforts to expand the types of reform efforts being implemented in LEAs in States that have received a Race to the Top award and to LEAs in other States. Moreover, these absolute priorities will help ensure that LEAs of varying sizes, both rural and non-rural, and with different local contexts are able to implement innovative personalized learning environments for their students that can serve as models for other LEAs and help improve student achievement widely.

The competitive preference priority we are establishing will reward applicants that propose to extend their reforms beyond the classroom and partner with public or private entities in order to address the social, emotional, and behavioral needs of students, particularly students who attend a high-need school.

As explained more fully elsewhere in this notice, given the tight timeline for obligating funds and in order to provide districts maximum time to prepare their applications for this competition, the Department is waiving notice-and-comment rulemaking for this competition. Specifically, we are waiving rulemaking for the priorities, requirements, definitions, and selection criteria for this new competition under section 437(d)(1) of the General Education Provisions Act (GEPA).

However, we solicited public participation as we developed our approach to this competition. From May 22 to June 8, 2012, we posted on the Department's Web site and blog a draft Executive Summary of the competition, which included draft competition priorities, requirements, definitions, and selection criteria, and we invited public input on each. We received approximately 475 responses reflecting the viewpoints of a variety of individuals and organizations, which we considered in our development of this notice. That Executive Summary and the comments we received are posted at www.ed.gov/race-top/district-competition.

Priorities: We are establishing these priorities for the FY 2012 grant competition only and any subsequent year in which we make awards from the list of unfunded applicants from this competition, in accordance with section 437(d)(1) of the General Education Provisions Act (GEPA), 20 U.S.C. 1232(d)(1).

Absolute Priorities: These priorities are absolute priorities. Under 34 CFR 75.105(c)(3) we consider only applications that meet Absolute Priority 1 and one of Absolute Priorities 2 through 5.

These priorities are:

Absolute Priority 1: Personalized Learning Environments. To meet this priority, an applicant must coherently and comprehensively address how it will build on the core educational assurance areas (as defined in this notice) to create learning environments that are designed to significantly improve learning and teaching through the personalization of strategies, tools, and supports for students and educators that are aligned with college- and career-ready standards (as defined in this notice) or college- and career-ready graduation requirements (as defined in this notice); accelerate student achievement and deepen student learning by meeting the academic needs of each student; increase the effectiveness of educators; expand student access to the most effective educators; decrease achievement gaps across student groups; and increase the rates at which students graduate from high school prepared for college and careers.

Absolute Priority 2: Non-Rural LEAs in Race to the Top States. To meet this priority, an applicant must be an LEA or a consortium of LEAs in which more than 50 percent of participating students (as defined in this notice) are in non-rural LEAs in States that received awards under the Race to the Top Phase 1, Phase 2, or Phase 3 competition.

Absolute Priority 3: Rural LEAs in Race to the Top States. To meet this priority, an applicant must be an LEA or a consortium of LEAs in which more than 50 percent of participating students (as defined in this notice) are in rural LEAs (as defined in this notice) in States that received awards under the Race to the Top Phase 1, Phase 2, or Phase 3 competition.

Absolute Priority 4: Non-Rural LEAs in non-Race to the Top States. To meet this priority, an applicant must be an LEA or a consortium of LEAs in which more than 50 percent of participating students (as defined in this notice) are in non-rural LEAs in States that did not receive awards under the Race to the Top Phase 1, Phase 2, or Phase 3 competition.

Absolute Priority 5: Rural LEAs in non-Race to the Top States. To meet this priority, an applicant must be an LEA or a consortium of LEAs in which more than 50 percent of participating students (as defined in this notice) are in rural LEAs (as defined in this notice) in States that did not receive awards under the Race to the Top Phase 1, Phase 2, or Phase 3 competition.

Competitive Preference Priority: This priority is a competitive preference priority. Under 34 CFR 75.105(c)(2)(i), we award up to an additional 10 points to an application, depending on how well the application meets this priority.

This priority is:

Competitive Preference Priority: Results, Resource Alignment, and Integrated Services. The Department will give priority to an applicant based on the extent to which the applicant proposes to integrate public or private resources in a partnership designed to augment the schools' resources by providing additional student and family supports to schools that address the social, emotional, or behavioral needs of the participating students (as defined in this notice), giving highest priority to students in participating schools with high-need students (as defined in this notice). To meet this priority, an applicant's proposal does not need to be comprehensive and may provide student and family supports that focus on a subset of these needs.

To meet this priority, an applicant must—

(1) Provide a description of the coherent and sustainable partnership that it has formed with public or private organizations, such as public health, before-school, after-school, and social service providers; integrated student service providers; businesses, philanthropies, civic groups, and other community-based organizations; early learning programs; and postsecondary institutions to support the plan described in Absolute Priority 1;

(2) Identify not more than 10 population-level desired results for students in the LEA or consortium of LEAs that align with and support the applicant's broader Race to the Top—District proposal. These results must include both educational results and other education outcomes (e.g., children enter kindergarten prepared to succeed in school, children exit third grade reading at grade level, and students graduate from high school college- and career-ready) and family and community supports (as defined in this notice) results;

(3) Describe how the partnership would—

(a) Track the selected indicators that measure each result at the aggregate level for all children within the LEA or consortium and at the student level for the participating students (as defined in this notice);

(b) Use the data to target its resources in order to improve results for participating students (as defined in this notice), with special emphasis on students facing significant challenges, such as students with disabilities, English learners, and students affected by poverty (including highly mobile students), family instability, or other child welfare issues;

(c) Develop a strategy to scale the model beyond the participating students (as defined in this notice) to at least other high-need students (as defined in this notice) and communities in the LEA or consortium over time; and

(d) Improve results over time;

(4) Describe how the partnership would, within participating schools (as defined in this notice), integrate education and other services (e.g., services that address social-emotional, and behavioral needs, acculturation for immigrants and refugees) for participating students (as defined in this notice);

(5) Describe how the partnership and LEA or consortium would build the capacity of staff in participating schools (as defined in this notice) by providing them with tools and supports to—

(a) Assess the needs and assets of participating students (as defined in this notice) that are aligned with the partnership's goals for improving the education and family and community supports (as defined in this notice) identified by the partnership;

(b) Identify and inventory the needs and assets of the school and community that are aligned with those goals for improving the education and family and community supports (as defined in this notice) identified by the applicant;

(c) Create a decision-making process and infrastructure to select, implement, and evaluate supports that address the individual needs of participating students (as defined in this notice) and support improved results;

(d) Engage parents and families of participating students (as defined in this notice) in both decision-making about solutions to improve results over time and in addressing student, family, and school needs; and

(e) Routinely assess the applicant's progress in implementing its plan to maximize impact and resolve challenges and problems; and

(6) Identify its annual ambitious yet achievable performance measures for the proposed population-level and describe desired results for students.

Waiver of Proposed Rulemaking: Under the Administrative Procedure Act (5 U.S.C. 553) the Department generally offers interested parties the opportunity to comment on proposed priorities, definitions, requirements, and selection criteria. Section 437(d)(1) of GEPA, however, allows the Secretary to exempt from rulemaking requirements regulations governing the first grant competition under a new or substantially revised program authority. This is the first grant competition for this program. The competition therefore qualifies for this exemption. In order to ensure timely grant awards, the Secretary has decided to forgo public comment on the priorities, definitions, requirements, and selection criteria in this notice.

These priorities, definitions, requirements, and selection criteria will apply to the FY 2012 competition and any subsequent year in which we make awards from the list of unfunded applicants from this competition.

Definitions

The definitions are:

Achievement gap means the difference in the performance between each subgroup (as defined in this notice) within a participating LEA or school and the statewide average performance of the LEA's or State's highest-achieving subgroups in reading or language arts and in mathematics as measured by the assessments required under the Elementary and Secondary Education Act of 1965 (ESEA), as amended.

College- and career-ready graduation requirements means minimum high school graduation expectations (e.g., completion of a minimum course of study, content mastery, proficiency on college- and career-ready assessments) that are aligned with a rigorous, robust, and well-rounded curriculum and that cover a wide range of academic and technical knowledge and skills to ensure that by the time students graduate high school, they satisfy requirements for admission into credit-bearing courses commonly required by the State's public four-year degree-granting institutions.

College- and career-ready standards means content standards for kindergarten through 12th grade that build towards college- and career-ready graduation requirements (as defined in this notice). A State's college- and career-ready standards must be either (1) standards that are common to a significant number of States; or (2) standards that are approved by a State network of institutions of higher education, which must certify that students who meet the standards will not need remedial course work at the postsecondary level.

College enrollment means the enrollment of students who graduate from high school consistent with 34 CFR 200.19(b)(1)(i) and who enroll in a public institution of higher education in the State (as defined in section 101(a) of the Higher Education Act of 1965, as amended, 20 U.S.C. 1001) within 16 months of graduation.

Consortium governance structure means the consortium's structure for carrying out its operations, including—

(1) The organizational structure of the consortium and the differentiated roles that a member LEA may hold (e.g., lead LEA, member LEA);

(2) For each differentiated role, the associated rights and responsibilities, including rights and responsibilities for adopting and implementing the consortium's proposal for a grant;

(3) The consortium's method and process (e.g., consensus, majority) for making different types of decisions (e.g., policy, operational);

(4) The protocols by which the consortium will operate, including the protocols for member LEAs to change roles or leave the consortium;

(5) The consortium's procedures for managing funds received under this grant;

(6) The terms and conditions of the memorandum of understanding or other binding agreement executed by each member LEA; and

(7) The consortium's procurement process, and evidence of each member LEA's commitment to that process.

Core educational assurance areas means the four key areas originally identified in the American Reinvestment and Recovery Act (ARRA) to support comprehensive education reform: (1) Adopting standards and assessments that prepare students to succeed in college and the workplace and to compete in the global economy; (2) building data systems that measure student growth and success, and inform teachers and principals with data about how they can improve instruction; (3) recruiting, developing, rewarding, and retaining effective teachers and principals, especially where they are needed most; and (4) turning around lowest-achieving schools.

Digital learning content means learning materials and resources that can be displayed on an electronic device and shared electronically with other users. Digital learning content includes both open source and commercial content. In order to comply with the requirements of the Americans with Disabilities Act of 1990 and Section 504 of the Rehabilitation Act of 1973, as amended, any digital learning content used by grantees must be accessible to individuals with disabilities, including individuals who use screen readers. For additional information regarding the application of these laws to technology, please refer to www.ed.gov/ocr/letters/colleague-201105-ese.pdf and www.ed.gov/ocr/docs/dcl-ebook-faq-201105.pdf.

Discipline means any disciplinary measure collected by the 2009-2010 or 2011-2012 Civil Rights Data Collection (see http://ocrdata.ed.gov).

Educators means all education professionals and education paraprofessionals working in participating schools (as defined in this notice), including principals or other heads of a school, teachers, other professional instructional staff (e.g., staff involved in curriculum development, staff development, bilingual/English as a Second Language (ESL) specialists, or instructional staff who operate library, media, and computer centers), pupil support services staff (e.g., guidance counselors, nurses, speech pathologists), other administrators (e.g., assistant principals, discipline specialists), and education paraprofessionals (e.g., assistant teachers, bilingual/ESL instructional aides).

Effective principal means a principal whose students, overall and for each subgroup, achieve acceptable rates (e.g., at least one grade level in an academic year) of student growth (as defined in this notice) as defined in the LEA's principal evaluation system (as defined in this notice).

Effective teacher means a teacher whose students achieve acceptable rates (e.g., at least one grade level in an academic year) of student growth (as defined in this notice) as defined in the LEA's teacher evaluation system (as defined in this notice).

Family and community supports means—

(1) Child and youth health programs, such as physical, mental, behavioral, and emotional health programs (e.g., home visiting programs; Head Start; Early Head Start; programs to improve nutrition and fitness, reduce childhood obesity, and create healthier communities);

(2) Safety programs, such as programs in school and out of school to prevent, control, and reduce crime, violence, drug and alcohol use and gang activity; programs that address classroom and school-wide behavior and conduct; programs to prevent child abuse and neglect; programs to prevent truancy and reduce and prevent bullying and harassment; and programs to improve the physical and emotional security of the school setting as perceived, experienced, and created by students, staff, and families;

(3) Community stability programs, such as programs that: (a) Provide adult education and employment opportunities and training to improve educational levels, job skills, and readiness in order to decrease unemployment, with a goal of increasing family stability; (b) improve families' awareness of, access to, and use of a range of social services, if possible at a single location; (c) provide unbiased, outcome-focused, and comprehensive financial education, inside and outside the classroom and at every life stage; (d) increase access to traditional financial institutions (e.g., banks and credit unions) rather than alternative financial institutions (e.g., check cashers and payday lenders); (e) help families increase their financial literacy, financial assets, and savings; and (f) help families access transportation to education and employment opportunities; (g) provides supports and services to students who are homeless, in foster care, migrant, or highly mobile; and

(4) Family and community engagement programs that are systemic, integrated, sustainable, and continue through a student's transition from K-12 schooling to college and career. These programs may include family literacy programs and programs that provide adult education and training and opportunities for family members and other members of the community to support student learning and establish high expectations for student educational achievement; mentorship programs that create positive relationships between children and adults; programs that provide for the use of such community resources as libraries, museums, television and radio stations, and local businesses to support improved student educational outcomes; programs that support the engagement of families in early learning programs and services; programs that provide guidance on how to navigate through a complex school system and how to advocate for more and improved learning opportunities; and programs that promote collaboration with educators and community organizations to improve opportunities for healthy development and learning.

Four intervention models means the turnaround model, restart model, school closure, and transformational model as defined by the final requirements for the School Improvement Grant (SIG) program, published in the Federal Register on October 28, 2010 (75 FR 66363).

Graduation rate means the four-year or extended-year adjusted cohort graduation rate as defined by 34 CFR 200.19(b)(1).

High-need students means students at risk of educational failure or otherwise in need of special assistance and support, such as students who are living in poverty, who attend high-minority schools (as defined in this notice), who are far below grade level, who have left school before receiving a regular high school diploma, who are at risk of not graduating with a diploma on time, who are homeless, who are in foster care, who have been incarcerated, who have disabilities, or who are English learners.

High-minority school is defined by the LEA in a manner consistent with its State's Teacher Equity Plan, as required by section 1111(b)(8)(C) of the ESEA. The LEA must provide, in its Race to the Top—District application, the definition used.

Highly effective principal means a principal whose students, overall and for each subgroup, achieve high rates (e.g., one and one-half grade levels in an academic year) of student growth (as defined in this notice) as defined under the LEAs principal evaluation system (as defined in this notice).

Highly effective teacher means a teacher whose students achieve high rates (e.g., one and one-half grade levels in an academic year) of student growth (as defined in this notice) as defined under the LEAs teacher evaluation system (as defined in this notice).

Interoperable data system means a system that uses a common, established structure such that data can easily flow from one system to another and in which data are in a non-proprietary, open format.

Local educational agency is an entity as defined in section 9101(26) of the ESEA, except that an entity described under section 9101(26)(D) must be recognized under applicable State law as a local educational agency.

Low-performing school means a school that is in the bottom 10 percent of performance in the State, or that has significant achievement gaps, based on student academic performance in reading/language arts and mathematics on the assessments required under the ESEA, or that has a graduation rate (as defined in this notice) below 60 percent.

Metadata means information about digital learning content such as the grade or age for which it is intended, the topic or standard to which it is aligned, or the type of resource it is (e.g., video, image).

On-track indicator means a measure, available at a time sufficiently early to allow for intervention, of a single student characteristic (e.g., number of days absent, number of discipline referrals, number of credits earned), or a composite of multiple characteristics, that is both predictive of student success (e.g., students demonstrating the measure graduate at an 80 percent rate) and comprehensive of students who succeed (e.g., of all graduates, 90 percent demonstrated the indicator). Using multiple indicators that are collectively comprehensive but vary by student characteristics may be an appropriate alternative to a single indicator that applies to all students.

Open data format means data that are available in a non-proprietary, machine-readable format (e.g., Extensible Markup Language (XML) and JavaScript Object Notation (JSON)) such that they can be understood by a computer. Digital formats that require extraction, data translation such as optical character recognition, or other manipulation in order to be used in electronic systems are not machine-readable formats.

Open-standard registry means a digital platform, such as the Learning Registry, that facilitates the exchange of information about digital learning content (as defined in this notice), including (1) alignment of content with college- and career-ready standards (as defined in this notice) and (2) usage information about learning content used by educators (as defined in this notice). This digital platform must have the capability to share content information with other LEAs and with State educational agencies.

Participating school means a school that is identified by the applicant and chooses to work with the applicant to implement the plan under Absolute Priority 1, either in one or more specific grade spans or subject areas or throughout the entire school and affecting a significant number of its students.

Participating student means a student enrolled in a participating school (as defined in this notice) and who is directly served by an applicant's plan under Absolute Priority 1.

Persistently lowest-achieving school means, as determined by the State, consistent with the requirements of the SIG program authorized by section 1003(g) of the ESEA,¹ (1) any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate as defined in 34 CFR 200.19(b) that is less than 60 percent over a number of years; and (2) any secondary school that is eligible for, but does not receive, Title I funds that (a) is among the lowest-achieving five percent of secondary schools or the lowest-achieving five secondary schools in the State that are eligible for, but do not receive, Title I funds, whichever number of schools is greater; or (b) is a high school that has had a graduation rate as defined in 34 CFR 200.19(b) that is less than 60 percent over a number of years.

¹ The Department considers schools that are identified as Tier I or Tier II schools under the School Improvement Grants Program (see 75 FR 66363) as part of a State's approved FY 2009 or FY 2010 applications to be persistently lowest-achieving schools. A list of these Tier I and Tier II schools can be found on the Department's Web site at http://www2.ed.gov/programs/sif/index.html

To identify the lowest-achieving schools, a State must take into account both (1) the academic achievement of the “all students” group in a school in terms of proficiency on the State's assessments under section 1111(b)(3) of the ESEA in reading or language arts and in mathematics combined; and (2) the school's lack of progress on those assessments over a number of years in the “all students” group.

Principal evaluation system means a system that: (1) Is used for continual improvement of instructional leadership; (2) meaningfully differentiates performance using at least three performance levels; (3) uses multiple valid measures in determining performance levels, including, as a significant factor, data on student growth (as defined in this notice) for all students (including English learners and students with disabilities), as well as other measures of professional practice (which may be gathered through multiple formats and sources, such as observations based on rigorous leadership performance standards, teacher evaluation data, and student and parent surveys); (4) evaluates principals on a regular basis; (5) provides clear, timely, and useful feedback, including feedback that identifies and guides professional development needs; and (6) is used to inform personnel decisions.

Rural local educational agency means an LEA, at the time of the application, that is eligible under the Small Rural School Achievement (SRSA) program or the Rural and Low-Income School (RLIS) program authorized under Title VI, Part B of the ESEA. Eligible applicants may determine whether a particular LEA is eligible for these programs by referring to information on the Department's Web site at http://www2.ed.gov/programs/reapsrsa/eligible12/index.html.

School leadership team means a team that leads the implementation of improvement and other initiatives at the school and is composed of the principal or other head of a school, teachers, and other educators (as defined in this notice), and, as applicable, other school employees, parents, students, and other community members. In cases where statute or local policy, including collective bargaining agreements, establishes a school leadership team, that body shall serve as the school leadership team for the purpose of this program.

Student growth means the change in student achievement for an individual student between two or more points in time, defined as—

(1) For grades and subjects in which assessments are required under ESEA section 1111(b)(3): (a) A student's score on such assessments; and (b) may include other measures of student learning, such as those described in (2) below, provided they are rigorous and comparable across schools within an LEA.

(2) For grades and subjects in which assessments are not required under ESEA section 1111(b)(3): Alternative measures of student learning and performance, such as student results on pre-tests, end-of-course tests, and objective performance-based assessments; performance against student learning objectives; student performance on English language proficiency assessments; and other measures of student achievement that are rigorous and comparable across schools within an LEA.

Student-level data means demographic, performance, and other information that pertains to a single student.

Student performance data means information about the academic progress of a single student, such as formative and summative assessment data, information on completion of coursework, instructor observations, information about student engagement and time on task, and similar information.

Subgroup means each category of students identified under section 1111(b)(2)(C)(v)(II) of the ESEA, as well as any combined subgroup used in the State accountability system and approved by the Department in a State's request for ESEA flexibility.

Superintendent evaluation means a rigorous, transparent, and fair annual evaluation of an LEA superintendent that provides an assessment of performance and encourages professional growth. This evaluation must reflect: (1) The feedback of many stakeholders, including but not limited to educators, principals, and parents; and (2) student outcomes.

Teacher evaluation system means a system that: (1) Is used for continual improvement of instruction; (2) meaningfully differentiates performance using at least three performance levels; (3) uses multiple valid measures in determining performance levels, including, as a significant factor, data on student growth (as defined in this notice) for all students (including English learners and students with disabilities), as well as other measures of professional practice (which may be gathered through multiple formats and sources, such as observations based on rigorous teacher performance standards, teacher portfolios, and student and parent surveys); (4) evaluates teachers on a regular basis; (5) provides clear, timely, and useful feedback, including feedback that identifies and guides professional development needs; and (6) is used to inform personnel decisions.

Teacher of record means an individual (or individuals in a co-teaching assignment) who has been assigned the lead responsibility for a student's learning in a subject or course.

Application Requirements

The application requirements are:

(1) State comment period. Each LEA included in an application must provide its State at least 10 business days to comment on the LEA's application and submit as part of its application package-

(a) The State's comments or, if the State declined to comment, evidence that the LEA offered the State 10 business days to comment; and

(b) The LEA's response to the State's comments (optional).

(2) Mayor (or city or town administrator) comment period. Each LEA included in an application must provide its mayor or other comparable official at least 10 business days to comment on the LEA's application and submit as part of its application package—

(a) The mayor or city or town administrator's comments or, if that individual declines to comment, evidence that the LEA offered such official 10 business days to comment; and

(b) The LEA's response to the mayor or city or town administrator comments (optional).

(3) Consortium. For LEAs applying as a consortium, the application must-

(a) Indicate, consistent with 34 CFR 75.128, whether—

(i) One member of the consortium is applying for a grant on behalf of the consortium; or

(ii) The consortium has established itself as a separate, eligible legal entity and is applying for a grant on its own behalf;

(b) Be signed by-

(i) If one member of the consortium is applying for a grant on behalf of the consortium, the superintendent or chief executive officer (CEO), local school board president, and local teacher union or association president (where applicable) of that LEA; or

(ii) If the consortium has established itself as a separate eligible legal entity and is applying for a grant on its own behalf, a legal representative of the consortium; and

(c) Include, consistent with 34 CFR 75.128, for each LEA in the consortium, copies of all memoranda of understanding or other binding agreements related to the consortium. These binding agreements must—

(i) Detail the activities that each member of the consortium plans to perform;

(ii) Describe the consortium governance structure (as defined in this notice);

(iii) Bind each member of the consortium to every statement and assurance made in the application; and

(iv) Include an assurance signed by the LEA's superintendent or CEO that—

(A) The LEA, at a minimum, will implement no later than the 2014-2015 school year—

(1) A teacher evaluation system (as defined in this notice);

(2) A principal evaluation system (as defined in this notice); and

(3) A superintendent evaluation (as defined in this notice);

(B) The LEA is committed to preparing students for college or career, as demonstrated by—

(1) Being located in a State that has adopted college- and career-ready standards (as defined in this notice); or

(2) Measuring all student progress and performance against college- and career-ready graduation requirements (as defined in this notice);

(C) The LEA has a robust data system that has, at a minimum—

(1) An individual teacher identifier with a teacher-student match; and

(2) The capability to provide timely data back to educators and their supervisors on student growth (as defined in this notice);

(D) The LEA has the capability to receive or match student-level preschool through 12th grade and higher education data; and

(E) The LEA ensures that any disclosure of or access to personally identifiable information in students' education records complies with the Family Educational Rights and Privacy Act (FERPA); and

(iv) Be signed by the superintendent or CEO, local school board president, and local teacher union or association president (where applicable).

Program Requirements

The program requirements are:

(1) An applicant's budget request for all years of its project must fall within the applicable budget range as follows:

Number of participating students | Award range in (millions)
2,000-5,000 or Fewer than 2,000, provided those students are served by a consortium of at least 10 LEAs and at least 75 percent of the students served by each LEA are participating students (as defined in this notice) | $5-10
5,001-10,000 | $10-20
10,001-25,000 | 20-30
25,001+ | 30-40

The Department will not consider an application that requests a budget outside the applicable range of awards, not including any optional budget supplements included in the application.

(2) A grantee must work with the Department and with a national evaluator or another entity designated by the Department to ensure that data collection and program design are consistent with plans to conduct a rigorous national evaluation of the program and of specific solutions and strategies pursued by individual grantees. This commitment must include, but need not be limited to—

(i) Consistent with 34 CFR 80.36 and State and local procurement procedures, grantees must include in contracts with external vendors provisions that allow contractors to provide implementation data to the LEA, the Department, the national evaluator, or other appropriate entities in ways consistent with all privacy laws and regulations.

(ii) Developing, in consultation with the national evaluator, a plan for identifying and collecting reliable and valid baseline data for program participants.

(3) LEAs must share metadata about content alignment with college- and career-ready standards (as defined in this notice) and use through open-standard registries.

(4) LEAs in which minority students or students with disabilities are disproportionately subject to discipline (as defined in this notice) and expulsion (according to data submitted through the Department's Civil Rights Data Collection, which is available at http://ocrdata.ed.gov/), must conduct a district assessment of the root causes of the disproportionate discipline and expulsions. These LEAs must also develop a detailed plan over the grant period to address these root causes and to reduce disproportionate discipline (as defined in this notice) and expulsions.

(5) Each grantee must make all project implementation and student data available to the Department and its authorized representatives in compliance with FERPA, as applicable.

(6) Grantees must ensure that requests for information (RFIs) and requests for proposal (RFPs) developed as part of this grant are made public, and are consistent with the requirements of State and local law.

(7) Within 100 days of award, each grantee must submit to the Department—

(i) A scope of work that is consistent with its grant application and includes specific goals, activities, deliverables, timelines, budgets, key personnel, and annual targets for key performance measures; and

(ii) An individual school implementation plan for participating schools (as defined in this notice).

(8) Within 100 days of award, each grantee must demonstrate that at least 40 percent of participating students (as defined in this notice) in participating schools (as defined in this notice) are from low-income families, based on eligibility for free or reduced-price lunch subsidies under the Richard B. Russell National School Lunch Act, or other poverty measures that LEAs use to make awards under section 1113(a) of the ESEA.

Program Authority: Sections 14005 and 14006 of the ARRA (Pub. L. 111-5), as amended by section 1832(b) of Division B of the Department of Defense and Full-Year Continuing Appropriations Act, 2011 (Pub. L. 112-10), and the Department of Education Appropriations Act, 2012 (Title III of Division F of Pub. L. 112-74, the Consolidated Appropriations Act, 2012).

Applicable Regulations: (a) The Education Department General Administrative Regulations (EDGAR) in 34 CFR parts 74, 75, 77, 79, 80, 81, 82, 84, 86, 97, 98, and 99. (b) The Education Department suspension and debarment regulations in 2 CFR part 3485.

Note: The regulations in 34 CFR part 79 apply to all applicants except federally recognized Indian tribes.

Note: The regulations in 34 CFR part 86 apply to institutions of higher education only.

Note: Nothing in this notice shall be construed to alter or otherwise affect the rights, remedies, and procedures afforded school or school district employees under Federal, State, or local laws (including applicable regulations or court orders) or under the terms of collective bargaining agreements, memoranda of understanding, or other agreements between such employees and their employers.

II. Award Information

Type of Award: Discretionary grants.

Estimated Available Funds: $383,000,000.

Contingent upon the availability of funds and the quality of applications, we may make additional awards in FY 2013 or subsequent fiscal years from the list of unfunded applicants from this competition.

The Department may use any unused funds from Phase 2 of the Race to the Top Early Learning Challenge program in the Race to the Top—District competition. Phase 2 of the Race to the Top Early Learning Challenge competition will be announced in a separate notice published in the Federal Register. Conversely, the Department of Education may use any unused FY 2012 funds from the Race to the Top—District competition under Phase 2 of the Race to the Top Early Learning Challenge competition.

Estimated Range of Awards: $5,000,000—$40,000,000.

Estimated Range of Awards and Maximum Awards: The following chart illustrates the range for awards by the number of participating students:

Number of participating students | Award range in (millions)
2,000-5,000 or Fewer than 2,000, provided those students are served by a consortium of at least 10 LEAs and at least 75 percent of the students served by each LEA are participating students (as defined in this notice) | $5-10
5,001-10,000 | 10-20
10,001-25,000 | 20-30
25,001+ | 30-40

We will not consider an application that requests a budget outside the applicable range of awards, not including any optional budget supplements included in the application. The Department may change the maximum amount through a notice published in the Federal Register.

Estimated Number of Awards: 15-25.

Note: The Department is not bound by any estimates in this notice.

Project Period: Up to 48 months.

III. Eligibility Information

(1) Eligible applicants: To be eligible for a grant under this competition:

(a) An applicant must be an individual LEA (as defined in this notice) or a consortium of LEAs from the 50 States, the District of Columbia, and the Commonwealth of Puerto Rico.

(i) LEAs may apply for all or a portion of their schools, for specific grades, or for subject-area bands (e.g., lowest-performing schools, secondary schools, schools connected by a feeder pattern, middle school math, or preschool through third grade).

(ii) Consortia may include LEAs from multiple States.

(iii) Each LEA may participate in only one Race to the Top—District application.

(b) An applicant must serve a minimum of 2,000 participating students (as defined in this notice) or may serve fewer than 2,000 participating students (as defined in this notice) provided those students are served by a consortium of at least 10 LEAs and at least 75 percent of the students served by each LEA are participating students (as defined in this notice).

(c) At least 40 percent of participating students (as defined in this notice) across all participating schools (as defined in this notice) must be students from low-income families, based on eligibility for free or reduced-price lunch subsidies under the Richard B. Russell National School Lunch Act, or other poverty measures that LEAs use to make awards under section 1113(a) of the ESEA. If an applicant has not identified all participating schools (as defined in this notice) at the time of application, it must provide an assurance that within 100 days of the grant award it will meet this requirement.

(d) An applicant must demonstrate its commitment to the core educational assurance areas (as defined in this notice), including, for each LEA included in an application, an assurance signed by the LEA's superintendent or CEO that—

(i) The LEA, at a minimum, will implement no later than the 2014-2015 school year—

(A) A teacher evaluation system (as defined in this notice);

(B) A principal evaluation system (as defined in this notice); and

(C) A superintendent evaluation (as defined in this notice);

(ii) The LEA is committed to preparing all students for college or career, as demonstrated by—

(A) Being located in a State that has adopted college- and career-ready standards (as defined in this notice); or

(B) Measuring all student progress and performance against college- and career-ready graduation requirements (as defined in this notice);

(iii) The LEA has a robust data system that has, at a minimum—

(A) An individual teacher identifier with a teacher-student match; and

(B) The capability to provide timely data back to educators and their supervisors on student growth (as defined in this notice);

(iv) The LEA has the capability to receive or match student-level preschool-through-12th grade and higher education data; and

(v) The LEA ensures that any disclosure of or access to personally identifiable information in students' education records complies with FERPA.

(e) Required signatures for the LEA or lead LEA in a consortium are those of the superintendent or CEO, local school board president, and local teacher union or association president (where applicable).

(2) Cost Sharing or Matching: This competition does not require cost sharing or matching.

IV. Application and Submission Information

1. Address To Request Application Package: You can obtain an application package via the Internet or from the Department of Education. To obtain a copy via the Internet, use the following address: www.ed.gov/programs/racetothetop-district. To obtain a copy from the Department of Education, write, fax, or call the following: Meredith Farace, U.S. Department of Education, 400 Maryland Avenue SW., room 7e208, Washington, DC 20202-4260. Telephone: (202) 453-6800. FAX: (202) 401-1557.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2.a. Content and Form of Application Submission: Requirements concerning the content of an application, together with the forms you must submit, are in the application package for this competition.

Notice of Intent to Apply: August 30, 2012. We will be able to develop a more efficient process for reviewing grant applications if we know the approximate number of applicants that intend to apply for funding under this competition. Therefore, the Secretary strongly encourages each potential applicant to notify us of the applicant's intent to submit an application for funding by completing a Web-based form. When completing this form, applicants will provide (1) the applicant's name and address; (2) whether the applicant is applying as an individual LEA or as a consortium of LEAs; (3) expected budget request; and (4) contact person (and phone number and email). Applicants may access this form online at http://www2.ed.gov/surveys/intent-rttd.html. Applicants that do not complete this form may still apply for funding.

Page Limit: The application narrative is where you, the applicant, address the selection criteria and the competitive preference priority that reviewers use to evaluate your application. We recommend you limit the application narrative to no more than 70 pages, using the following standards:

• A “page” is 8.5″ x 11″, on one side only, with 1” margins at the top, bottom, and both sides.

• Each page has a page number.

• Line spacing for the narrative is set to 1.5 spacing, and the font used is 12 point Times New Roman.

The recommended page limit does not apply to the cover sheet; Parts X and XI, the budget sections, including the narrative budget justification; Parts IV-VII, the assurances and certifications; the resumes, the letters of support, or other appendices. However, the recommended page limit does apply to all of the application narrative section.

b. Submission of Proprietary Information:

Given the types of projects that may be proposed in applications for the Race to the Top—District, an application may include business information that the applicant considers proprietary. The Department's regulations define “business information” in 34 CFR 5.11.

Following the process used with our previous Race to the Top competitions, we plan to post funded applications on our Web site and you may wish to request confidentiality of business information.

Consistent with Executive Order 12600, please designate in your application any information that you feel is exempt from disclosure under Exemption 4 of the Freedom of Information Act. In an attachment in the Appendix, titled “Disclosure Exemption,” please list the page number or numbers on which we can find this information. For additional information please see 34 CFR 5.11(c).

3. Submission Dates and Times:

Applications Available: August 16, 2012.

Deadline for Notice of Intent To Apply: August 31, 2012. Submission of a notice of intent to apply is optional.

Date of Application Webinar: August 16 and 21, 2012.

Deadline for Transmittal of Applications: October 30, 2012.

Applications for grants under this competition must be submitted in electronic format on a CD or DVD, with CD-ROM or DVD-ROM preferred, by mail or hand delivery. For information (including dates and times) about how to submit your application by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this competition must be submitted in electronic format on a CD or DVD, with CD-ROM or DVD-ROM preferred, by mail or hand delivery. Individual LEA applicants must submit signed originals of Parts IV, V, and VII of the application and the applicant LEAs for a consortium application must submit signed originals of Parts IV, VI, VII of the application and a signed memorandum of understanding from each member LEA of the consortia (as described in Part XIII of the application).

All electronic application files must be in a .DOC (document), .DOCX (document), .RTF (rich text), or .PDF (Portable Document) format. Each file name should clearly identify the part of the application it contains. If an applicant submits a file type other than the four file types specified in this paragraph, the Department will not review that material. Applicants should not password-protect these files. The CD or DVD containing the application should be clearly labeled with the applicant's name, city, State, and any other relevant information.

We strongly recommend the applicant to submit a CD or DVD of its application that includes the following files: (1) A single file that contains the body of the application, including required budget tables, that has been converted into a .PDF format so that the .PDF is searchable. Note that a .PDF created from a scanned document will not be searchable. (2) A single file in a .PDF format that contains all of the required signature pages. The signature pages may be scanned and turned into a PDF. (3) Copies of the completed electronic budget spreadsheets with the required budget tables, which should be in a separate file from the body of the application. The spreadsheets will be used by the Department for budget reviews. Each of these items must be clearly labeled with the LEA's name, city, state, and any other relevant identifying information. Applicants also should not password-protect these files.

The Department must receive the application by 4:30:00 p.m., Washington, DC time, on or before the application deadline date.

a. Submission of Applications by Mail

If you submit your application by mail (through the U.S. Postal Service or a commercial carrier), we must receive your application (i.e., the CD or DVD, and the signed originals of Parts IV-VII and memoranda of understanding, as applicable) on or before the application deadline date. Therefore to avoid delays, we strongly recommend sending the application via overnight mail. Mail the original and two copies of the application to the Department at the following address: U.S. Department of Education, Application Control Center, Attention: CFDA Number 84.416, LBJ Basement Level 1, 400 Maryland Avenue SW., Washington, DC 20202-4260.

If we receive an application after the application deadline, we will not consider that application.

b. Submission of Applications by Hand Delivery

If you submit your application by hand delivery, you (or a courier service) must deliver the original and two copies of your application by hand, on or before the application deadline date, to the Department at the following address: U.S. Department of Education, Application Control Center, Attention: CFDA Number 84.416, 550 12th Street SW., Room 7041, Potomac Center Plaza, Washington, DC 20202-4260.

The Application Control Center accepts hand deliveries daily between 8:00 a.m. and 4:30 p.m., Washington, DC time, except Saturdays, Sundays, and Federal holidays.

Note for Mail or Hand Delivery of Applications: When you mail or hand deliver your application to the Department—

(1) You must indicate on the envelope the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are as follows:

A. Vision

(1) The extent to which the applicant has set forth a comprehensive and coherent reform vision that builds on its work in four core educational assurance areas (as defined in this notice) and articulates a clear and credible approach to the goals of accelerating student achievement, deepening student learning, and increasing equity through personalized student support grounded in common and individual tasks that are based on student academic interests.

(2) The extent to which the applicant's approach to implementing its reform proposal (e.g., schools, grade bands, or subject areas) will support high-quality LEA-level and school-level implementation of that proposal, including—

(a) A description of the process that the applicant used or will use to select schools to participate. The process must ensure that the participating schools (as defined in this notice) collectively meet the competition's eligibility requirements;

(b) A list of the schools that will participate in grant activities (as available); and

(c) The total number of participating students (as defined in this notice), participating students (as defined in this notice) from low-income families, participating students (as defined in this notice) who are high-need students (as defined in this notice), and participating educators (as defined in this notice). If participating schools (as defined in this notice) have yet to be selected, the applicant may provide approximate numbers.

(3) The extent to which the application includes a high-quality plan describing how the reform proposal will be scaled up and translated into meaningful reform to support district-wide change beyond the participating schools (as defined in this notice), and will help the applicant reach its outcome goals (e.g., the applicant's logic model or theory of change of how its plan will improve student learning outcomes for all students who would be served by the applicant).

(4) The extent to which the applicant's vision is likely to result in improved student learning and performance and increased equity as demonstrated by ambitious yet achievable annual goals that are equal to or exceed State ESEA targets for the LEA(s), overall and by student subgroup (as defined in this notice), for each participating LEA in the following areas:

(a) Performance on summative assessments (proficiency status and growth).

(b) Decreasing achievement gaps (as defined in this notice).

(c) Graduation rates (as defined in this notice).

(d) College enrollment (as defined in this notice) rates.

Optional: The extent to which the applicant's vision is likely to result in improved student learning and performance and increased equity as demonstrated by ambitious yet achievable annual goals for each participating LEA in the following area:

(e) Postsecondary degree attainment.

B. Prior Record of Success and Conditions for Reform

The extent to which each LEA has demonstrated evidence of—

(1) A clear record of success in the past four years in advancing student learning and achievement and increasing equity in learning and teaching, including a description, charts or graphs, raw student data, and other evidence that demonstrates the applicant's ability to—

(a) Improve student learning outcomes and close achievement gaps (as defined in this notice), including by raising student achievement, high school graduation rates (as defined in this notice), and college enrollment (as defined in this notice) rates;

(b) Achieve ambitious and significant reforms in its persistently lowest-achieving schools (as defined in this notice) or in its low-performing schools (as defined in this notice); and

(c) Make student performance data (as defined in this notice) available to students, educators (as defined in this notice), and parents in ways that inform and improve participation, instruction, and services.

(2) A high level of transparency in LEA processes, practices, and investments, including by making public, by school, actual school-level expenditures for regular K-12 instruction, instructional support, pupil support, and school administration. At a minimum, this information must include a description of the extent to which the applicant already makes available the following four categories of school-level expenditures from State and local funds:

(a) Actual personnel salaries at the school level for all school-level instructional and support staff, based on the U.S. Census Bureau's classification used in the F-33 survey of local government finances (information on the survey can be found at http://nces.ed.gov/ccd/f33agency.asp);

(b) Actual personnel salaries at the school level for instructional staff only;

(c) Actual personnel salaries at the school level for teachers only; and

(d) Actual non-personnel expenditures at the school level (if available).

(3) Successful conditions and sufficient autonomy under State legal, statutory, and regulatory requirements to implement the personalized learning environments described in the applicant's proposal;

(4) Meaningful stakeholder engagement in the development of the proposal and meaningful stakeholder support for the proposal, including—

(a) A description of how students, families, teachers, and principals in participating schools (as defined in this notice) were engaged in the development of the proposal and, as appropriate, how the proposal was revised based on their engagement and feedback, including—

(i) For LEAs with collective bargaining representation, evidence of direct engagement and support for the proposals from teachers in participating schools (as defined in this notice); or

(ii) For LEAs without collective bargaining representation, at a minimum, evidence that at least 70 percent of teachers from participating schools (as defined in this notice) support the proposal; and

(b) Letters of support from such key stakeholders as parents and parent organizations, student organizations, early learning programs, tribes, the business community, civil rights organizations, advocacy groups, local civic and community-based organizations, and institutions of higher education; and

(5) A high-quality plan for an analysis of the applicant's current status in implementing personalized learning environments and the logic behind the reform proposal contained within the applicant's proposal, including identified needs and gaps that the plan will address.

C. Preparing Students for College and Careers

The extent to which the applicant has a high-quality plan for improving learning and teaching by personalizing the learning environment in order to provide all students the support to graduate college- and career-ready. This plan must include an approach to implementing instructional strategies for all participating students (as defined in this notice) that enable participating students to pursue a rigorous course of study aligned to college- and career-ready standards (as defined in this notice) and college- and career-ready graduation requirements (as defined in this notice) and accelerate his or her learning through support of his or her needs. The quality of the plan will be assessed based on the extent to which the applicant proposes an approach that includes the following:

(1) Learning: An approach to learning that engages and empowers all learners, in particular high-need students, in an age-appropriate manner such that:

(a) With the support of parents and educators, all students—

(i) Understand that what they are learning is key to their success in accomplishing their goals;

(ii) Identify and pursue learning and development goals linked to college- and career-ready standards (as defined in this notice) or college- and career-ready graduation requirements (as defined in this notice), understand how to structure their learning to achieve their goals, and measure progress toward those goals;

(iii) Are able to be involved in deep learning experiences in areas of academic interest;

(iv) Have access and exposure to diverse cultures, contexts, and perspectives that motivate and deepen individual student learning; and

(v) Master critical academic content and develop skills and traits such as goal-setting, teamwork, perseverance, critical thinking, communication, creativity, and problem-solving;

(b) With the support of parents and educators, there is a strategy to ensure that each student has access to—

(i) A personalized sequence of instructional content and skill development designed to enable the student to achieve his or her individual learning goals and ensure he or she can graduate on time and college- and career-ready;

(ii) A variety of high-quality instructional approaches and environments;

(iii) High-quality content, including digital learning content (as defined in this notice) as appropriate, aligned with college- and career-ready standards (as defined in this notice) or college- and career-ready graduation requirements (as defined in this notice);

(iv) Ongoing and regular feedback, including, at a minimum—-

(A) Frequently updated individual student data that can be used to determine progress toward mastery of college- and career-ready standards (as defined in this notice), or college- and career-ready graduation requirements; and

(B) Personalized learning recommendations based on the student's current knowledge and skills, college- and career-ready standards (as defined in this notice) or college- and career-ready graduation requirements (as defined in this notice), and available content, instructional approaches, and supports; and

(v) Accommodations and high-quality strategies for high-need students (as defined in this notice) to help ensure that they are on track toward meeting college- and career-ready standards (as defined in this notice) or college- and career-ready graduation requirements (as defined in this notice); and

(c) Mechanisms are in place to provide training and support to students that will ensure that they understand how to use the tools and resources provided to them in order to track and manage their learning.

(2) Teaching and Leading: An approach to teaching and leading that helps educators (as defined in this notice) to improve instruction and increase their capacity to support student progress toward meeting college- and career-ready standards (as defined in this notice) or college- and career-ready graduation requirements (as defined in this notice) by enabling the full implementation of personalized learning and teaching for all students such that:

(a) All participating educators (as defined in this notice) engage in training, and in professional teams or communities, that supports their individual and collective capacity to—

(i) Support the effective implementation of personalized learning environments and strategies that meet each student's academic needs and help ensure all students can graduate on time and college- and career-ready;

(ii) Adapt content and instruction, providing opportunities for students to engage in common and individual tasks, in response to their academic needs, academic interests, and optimal learning approaches (e.g., discussion and collaborative work, project-based learning, videos, audio, manipulatives);

(iii) Frequently measure student progress toward meeting college- and career-ready standards (as defined in this notice), or college- and career-ready graduation requirements (as defined in this notice) and use data to inform both the acceleration of student progress and the improvement of the individual and collective practice of educators; and

(iv) Improve teachers' and principals' practice and effectiveness by using feedback provided by the LEA's teacher and principal evaluation systems (as defined in this notice), including frequent feedback on individual and collective effectiveness, as well as by providing recommendations, supports and interventions as needed for improvement.

(b) All participating educators (as defined in this notice) have access to, and know how to use, tools, data, and resources to accelerate student progress toward meeting college- and career-ready graduation requirements (as defined in this notice). Those resources must include—

(i) Actionable information that helps educators (as defined in this notice) identify optimal learning approaches that respond to individual student academic needs and interests;

(ii) High-quality learning resources (e.g., instructional content and assessments), including digital resources, as appropriate, that are aligned with college- and career-ready standards (as defined in this notice) or college- and career-ready graduation requirements (as defined in this notice), and the tools to create and share new resources; and

(iii) Processes and tools to match student needs (see Selection Criterion (C)(2)(b)(i)) with specific resources and approaches (see Selection Criterion (C)(2)(b)(ii)) to provide continuously improving feedback about the effectiveness of the resources in meeting student needs.

(c) All participating school leaders and school leadership teams (as defined in this notice) have training, policies, tools, data, and resources that enable them to structure an effective learning environment that meets individual student academic needs and accelerates student progress through common and individual tasks toward meeting college- and career-ready standards (as defined in this notice) or college- and career-ready graduation requirements (as defined in this notice). The training, policies, tools, data, and resources must include:

(i) Information, from such sources as the district's teacher evaluation system (as defined in this notice), that helps school leaders and school leadership teams (as defined in this notice) assess, and take steps to improve, individual and collective educator effectiveness and school culture and climate, for the purpose of continuous school improvement; and

(ii) Training, systems, and practices to continuously improve school progress toward the goals of increasing student performance and closing achievement gaps (as defined in this notice).

(d) The applicant has a high-quality plan for increasing the number of students who receive instruction from effective and highly effective teachers and principals (as defined in this notice), including in hard-to-staff schools, subjects (such as mathematics and science), and specialty areas (such as special education).

D. LEA Policy and Infrastructure

The extent to which the applicant has a high-quality plan to support project implementation through comprehensive policies and infrastructure that provide every student, educator (as defined in this notice), and level of the education system (classroom, school, and LEA) with the support and resources they need, when and where they are needed. The quality of the plan will be determined based on the extent to which—

(1) The applicant has practices, policies, and rules that facilitate personalized learning by—

(a) Organizing the LEA central office, or the consortium governance structure (as defined in this notice), to provide support and services to all participating schools (as defined in this notice);

(b) Providing school leadership teams in participating schools (as defined in this notice) with sufficient flexibility and autonomy over factors such as school schedules and calendars, school personnel decisions and staffing models, roles and responsibilities for educators and noneducators, and school-level budgets;

(c) Giving students the opportunity to progress and earn credit based on demonstrated mastery, not the amount of time spent on a topic;

(d) Giving students the opportunity to demonstrate mastery of standards at multiple times and in multiple comparable ways; and

(e) Providing learning resources and instructional practices that are adaptable and fully accessible to all students, including students with disabilities and English learners; and

(2) The LEA and school infrastructure supports personalized learning by—

(a) Ensuring that all participating students(as defined in this notice), parents, educators (as defined in this notice), and other stakeholders (as appropriate and relevant to student learning), regardless of income, have access to necessary content, tools, and other learning resources both in and out of school to support the implementation of the applicant's proposal;

(b) Ensuring that students, parents, educators, and other stakeholders (as appropriate and relevant to student learning) have appropriate levels of technical support, which may be provided through a range of strategies (e.g., peer support, online support, or local support);

(c) Using information technology systems that allow parents and students to export their information in an open data format (as defined in this notice) and to use the data in other electronic learning systems (e.g., electronic tutors, tools that make recommendations for additional learning supports, or software that securely stores personal records); and

(d) Ensuring that LEAs and schools use interoperable data systems (as defined in this notice) (e.g., systems that include human resources data, student information data, budget data, and instructional improvement system data).

E. Continuous Improvement

Because the applicant's high-quality plan represents the best thinking at a point in time, and may require adjustments and revisions during implementation, it is vital that the applicant have a clear and high-quality approach to continuously improve its plan. This will be determined by the extent to which the applicant has—

(1) A strategy for implementing a rigorous continuous improvement process that provides timely and regular feedback on progress toward project goals and opportunities for ongoing corrections and improvements during and after the term of the grant. The strategy must address how the applicant will monitor, measure, and publicly share information on the quality of its investments funded by Race to the Top—District, such as investments in professional development, technology, and staff;

(2) Strategies for ongoing communication and engagement with internal and external stakeholders; and

(3) Ambitious yet achievable performance measures, overall and by subgroup, with annual targets for required and applicant-proposed performance measures. For each applicant-proposed measure, the applicant must describe—

(a) Its rationale for selecting that measure;

(b) How the measure will provide rigorous, timely, and formative leading information tailored to its proposed plan and theory of action regarding the applicant's implementation success or areas of concern; and

(c) How it will review and improve the measure over time if it is insufficient to gauge implementation progress.

The applicant must have a total of approximately 12 to 14 performance measures.

The chart below outlines the required and applicant-proposed performance measures based on an applicant's applicable population.

Applicable population | Performance measure
All | (a) The number and percentage of participating students, by subgroup (as defined in this notice), whose teacher of record (as defined in this notice) and principal are a highly effective teacher (as defined in this notice) and a highly effective principal (as defined in this notice); and
| (b) The number and percentage of participating students, by subgroup (as defined in this notice), whose teacher of record (as defined in this notice) and principal are an effective teacher (as defined in this notice) and an effective principal (as defined in this notice).
PreK-3 | (a) Applicant must propose at least one age- appropriate measure of students' academic growth (e.g., language and literacy development or cognition and general learning, including early mathematics and early scientific development); and
| (b) Applicant must propose at least one age-appropriate non-cognitive indicator of growth (e.g., physical well-being and motor development, or social-emotional development).
4-8 | (a) The number and percentage of participating students, by subgroup, who are on track to college- and career-readiness based on the applicant's on-track indicator (as defined in this notice);
| (b) Applicant must propose at least one grade-appropriate academic leading indicator of successful implementation of its plan; and
| (c) Applicant must propose at least one grade-appropriate health or social-emotional leading indicator of successful implementation of its plan.
9-12 | (a) The number and percentage of participating students who complete and submit the Free Application for Federal Student Aid (FAFSA) form;
| (b) The number and percentage of participating students, by subgroup, who are on track to college- and career-readiness based on the applicant's on-track indicator (as defined in this notice);
| (c) Applicant must propose at least one measure of career-readiness in order to assess the number and percentage of participating students who are or are on track to being career-ready;
| (d) Applicant must propose at least one grade-appropriate academic leading indicator of successful implementation of its plan; and
| (e) Applicant must propose at least one grade-appropriate health or social-emotional leading indicator of successful implementation of its plan.

(4) Plans to evaluate the effectiveness of Race to the Top—District funded activities, such as professional development and activities that employ technology, and to more productively use time, staff, money, or other resources in order to improve results, through such strategies as improved use of technology, working with community partners, compensation reform, and modification of school schedules and structures (e.g., service delivery, school leadership teams (as defined in this notice), and decision-making structures).

F. Budget and Sustainability

The extent to which—

(1) The applicant's budget, including the budget narrative and tables—

(a) Identifies all funds that will support the project (e.g., Race to the Top—District grant; external foundation support; LEA, State, and other Federal funds); and

(b) Is reasonable and sufficient to support the development and implementation of the applicant's proposal; and

(c) Clearly provides a thoughtful rationale for investments and priorities, including—

(i) A description of all of the funds (e.g., Race to the Top—District grant; external foundation support; LEA, State, and other Federal funds) that the applicant will use to support the implementation of the proposal, including total revenue from these sources; and

(ii) Identification of the funds that will be used for one-time investments versus those that will be used for ongoing operational costs that will be incurred during and after the grant period, as described in the proposed budget and budget narrative, with a focus on strategies that will ensure the long-term sustainability of the personalized learning environments; and

(2) The applicant has a high-quality plan for sustainability of the project's goals after the term of the grant. The plan should include support from State and local government leaders and financial support. Such a plan may include a budget for the three years after the term of the grant that includes budget assumptions, potential sources, and uses of funds.

G. Optional Budget Supplement

An eligible applicant may apply for additional funding (beyond the applicable maximum level provided) up to a maximum of $2 million for each optional budget supplement to address a specific area that is supplemental to the plan for addressing Absolute Priority 1. The request for additional funding must be designed as a separate project that, if not funded, will not adversely affect the applicant's ability to implement its proposal and meet Absolute Priority 1.

Applications for this funding will be judged on the extent to which the applicant has a clear, discrete, and innovative solution that can be replicated in schools across the Nation. In determining the extent to which the request for an optional budget supplement meets this standard, the Department will consider—

(1) The rationale for the specific area or population that the applicant will address (e.g., strategies to assess hard to measure skills and traits such as perseverance, critical thinking, and communication; strategies for increasing diversity across schools and LEAs and within schools and classrooms; data systems; predictive algorithms; content-tagging schemes; new curriculum and online supports for students re-entering school from the juvenile justice system; or a credit recovery program design to support English learners newly entering into secondary school and the quality and feasibility of the proposal for addressing that area);

(2) A high-quality plan for how the applicant would carry out activities that would be co-developed and implemented across two or more LEAs (either participating in the full Race to the Top—District application, or not participating in the full Race to the Top—District application); and

(3) The proposed budget (up to $2 million) for each budget supplement, and the extent to which the proposed budget will be adequate to support the development and implementation of activities that meet the requirements of this notice, including the reasonableness of the costs in relation to the objectives, design, and significance of the proposed project activities and the number of students to be served.

Note, an optional budget supplement may include a proposal to utilize, across two or more districts, robust measures of student status and growth that assess hard to measure skills and traits such as goal-setting, teamwork, perseverance, critical thinking, communication, creativity, and problem-solving across multiple academic domains and enable evaluation of group and individual learning experiences. The Department believes that utilizing these measures will contribute to the continuous improvement of personalized learning experiences and the tools and resources that support their implementation.

Peer reviewers will use the scoring rubric that can be found in Appendix A of this notice when scoring the selection criteria.

2. Review and Selection Process: In selecting grantees, the Secretary may consider high-ranking applications meeting Absolute Priorities 2 through 5 separately to ensure that there is a diversity of winning LEA applications from within States that have and have not previously received awards under Race to the Top, and from both non-rural and rural LEAs (as defined in this notice).

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We also may notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: Each grantee receiving Race to the Top—District funds must submit to the Department an annual report that must include a description of its progress to date on its goals, timelines, activities, deliverables, and budgets, and a comparison of actual performance to the annual targets the grantee established in its application for each performance measure. Further, a grantee receiving funds under this program is accountable for meeting the goals, timelines, activities, deliverables, budget, and annual targets established in the application; adhering to an annual fund drawdown schedule that is tied to meeting these goals, timelines, activities, deliverables, budget, and annual targets; and fulfilling and maintaining all other conditions for the conduct of the project. The Department will monitor a grantee's progress in meeting its goals, timelines, activities, deliverables, budget, and annual targets and in fulfilling other applicable requirements. In addition, the Department may collect additional data as part of a grantee's annual reporting requirements.

To support a collaborative process between the grantee and the Department, the Department may require that applicants that are selected to receive an award enter into a written performance agreement or cooperative agreement with, or complete a scope of work to be approved by, the Department. If the Department determines that a grantee is not meeting its goals, timelines, activities, deliverables, budget, or annual targets or is not fulfilling other applicable requirements, the Department will take appropriate action, which could include a collaborative process between the Department and the grantee, or enforcement measures with respect to this grant, such as placing the grantee in high-risk status, putting it on reimbursement payment status, or delaying or withholding funds.

An LEA that receives a Race to the Top—District grant must also meet the reporting requirements for the Federal Funding Accountability and Transparency Act (FFATA) for subaward and executive compensation data. Grantees, referred to as “prime awardees,” must report using the FFATA Subaward Reporting System (FSRS), and must, therefore, register in FSRS. More specific information regarding the FFATA reporting requirements will be provided after the grants are awarded.

4. Continuation Awards: The Department may provide full funding for the entire project period to successful applicants from the FY 2012 funds currently available or may provide funding for an initial budget period from the FY 2012 funds. Depending upon the amount of funding provided in the initial awards and the availability of funds, the Department may make continuation awards for subsequent fiscal years in accordance with 34 CFR 75.253. In making such continuation awards, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Meredith Farace, U.S. Department of Education, 400 Maryland Avenue SW., room 7e280, Washington, DC 20202. Telephone: (202) 453-6800 or by email: racetothetop.district@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 10, 2012.
Arne Duncan,
Secretary of Education.

BILLING CODE 4000-01-P

[FR Doc. 2012-20037 Filed 8-15-12; 8:45 am]

BILLING CODE 4000-01-C